DEPARTMENT OF ENERGY

Federal Energy Regulatory Commission

Combined Notice of Filings

Take notice that the Commission has received the following Natural Gas Pipeline Rate and Refund Report filings:

Filings Instituting Proceedings

Docket Numbers: RP12-802-000.

Applicants: Natural Gas Pipeline Company of America.

Description: Prairieland Energy Negotiated Rate to be effective 7/1/2012.

Filed Date: 6/15/12.

Accession Number: 20120615-5018.

Comments Due: 5 p.m. ET 6/27/12.

Docket Numbers: RP12-803-000.

Applicants: Natural Gas Pipeline Company of America.

Description: Removal of Expired Agreements to be effective 7/16/2012.

Filed Date: 6/15/12.

Accession Number: 20120615-5038.

Comments Due: 5 p.m. ET 6/27/12.

Docket Numbers: RP12-804-000.

Applicants: Iroquois Gas Transmission System, L.P.

Description: 06/15/12 ROFR (Right of First Refusal) to be effective 7/15/2012.

Filed Date: 6/15/12.

Accession Number: 20120615-5040.

Comments Due: 5 p.m. ET 6/27/12.

Docket Numbers: RP12-805-000.

Applicants: Ryckman Creek Resources, LLC.

Description: NonConforming Service Agreements to be effective 7/16/2012.

Filed Date: 6/15/12.

Accession Number: 20120615-5082.

Comments Due: 5 p.m. ET 6/27/12.

Docket Numbers: RP12-806-000.

Applicants: El Paso Natural Gas Company.

Description: Opinion No. 517 Compliance for RP08-426-000 to be effective 5/1/2010.

Filed Date: 6/15/12.

Accession Number: 20120615-5135.

Comments Due: 5 p.m. ET 6/27/12.

Docket Numbers: RP12-807-000.

Applicants: Alliance Pipeline L.P.

Description: June 2012 Auction to be effective 6/19/2012.

Filed Date: 6/15/12.

Accession Number: 20120615-5139.

Comment Date: 5 p.m. ET 6/27/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: June 18, 2012.
Nathaniel J. Davis, Sr.,
Deputy Secretary.

[FR Doc. 2012-15402 Filed 6-22-12; 8:45 am]

BILLING CODE 6717-01-P